DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than May 23, 2016.

ADDRESSES: Submit your comments to paperwork@hrsa.gov or mail the HRSA Information Collection Clearance Officer, Room 14N-39, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Corps Community Event Form.

OMB No.: 0915-0362 Extension.

Abstract: Corps Community Month, formerly Corps Community Day, was created in 2011 and celebrates the National Health Service Corps (NHSC) every October. The NHSC is a program administered by the Bureau of Health Workforce (BHW) within HRSA. The goals of Corps Community Month encompass the following: Increase awareness of the NHSC to potential applicants and the greater primary health community; create a sense of community and connectedness among NHSC program participants, alumni, partners and staff; and underscore the NHSC's role in bringing primary health care services to the nation's neediest communities. Current program participants, alumni, NHSC Ambassadors, sites, primary care organizations, and professional associations plan events and report the details of their events to BHW so that they can be added to the state-by-state map of events. In order to avoid duplication of effort, eliminate confusion regarding allowable event dates, avoid data entry errors, and implement a brief post-event satisfaction survey, BHW would like to continue to use the standard form that event planners use to report to BHW. The fillable form is available online and has 26 fields for event planners to populate to submit for inclusion on the map. There are also approximately 5 fields to populate following the event to measure satisfaction. Both the pre-event and post-event data fields are held in one form.

Need and Proposed Use of the Information: The information collected is used and needed to highlight the impact of BHW and the NHSC programs in underserved and rural areas as part of outreach initiatives. Event information is captured and tracked to ensure that each HHS region is highlighted.

Likely Respondents: Current program participants, alumni, NHSC Ambassadors, sites, primary care organizations, and professional associations.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized burden hours:

Form name | Number of respondents | Number of responses per respondent | Total responses | Average burden per response (in hours) | Total burden hours
Corps Community Month Event Planning Form | 300 | 1 | 300 | .066 | 19.8
Corps Community Month Event Satisfaction Form | 300 | 1 | 300 | .033 | 9.9
Total | 300 |  | 300 |  | 29.7

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jackie Painter,
Director, Division of the Executive Secretariat.

[FR Doc. 2016-06444 Filed 3-22-16; 8:45 am]

BILLING CODE 4165-15-P